DEPARTMENT OF HOMELAND SECURITY

Federal Emergency Management Agency

[Docket ID FEMA-2015-0001; Internal Agency Docket No. FEMA-B-1472]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 11, 2015.
Roy E. Wright,
Deputy Associate Administrator for Mitigation, Department of Homeland Security, Federal Emergency Management Agency.

State and county | Location and case No. | Chief executive officer of community | Community map repository | Online location of letter of map revision | Effective date of modification | Community No.
Arkansas:
Johnson | City of Clarksville (14-06-3379P) | The Honorable Billy Helms, Mayor, City of Clarksville, 205 Walnut Street, Clarksville, AR 72830 | 205 Walnut Street, Clarksville, AR 72830 | http://www.msc.fema.gov/lomc | Apr. 30, 2015 | 050112
Johnson | Unincorporated areas of Johnson County (14-06-3379P) | The Honorable Herbert H. Houston, Johnson County Judge, 215 West Main Street, Clarksville, AR 72830 | Johnson County, 215 West Main Street, Clarksville, AR 72830 | http://www.msc.fema.gov/lomc | Apr. 30, 2015 | 050441
Louisiana:
Ouachita | Unincorporated areas of Ouachita Parish (13-06-0061P) | The Honorable Shane Smiley, Ouachita Parish Police Jury President, 301 South Grand Street, Suite 201, Monroe, LA 71201 | Ouachita Parish Floodplain Manager's Office, 1650 DeSiard Street, Suite 202, Monroe, LA 71201 | http://www.msc.fema.gov/lomc | Mar. 27, 2015 | 220135
Maryland:
Worcester | Town of Ocean City (14-03-1788P) | The Honorable Richard W. Meehan, Mayor, Town of Ocean City, P.O. Box 158, Ocean City, MD 21843 | Planning and Zoning Division, 301 North Baltimore Avenue, Ocean City, MD 21842 | http://www.msc.fema.gov/lomc | Apr. 17, 2015 | 245207
Worcester | Town of Ocean City (14-03-1789P) | The Honorable Richard W. Meehan, Mayor, Town of Ocean City, P.O. Box 158, Ocean City, MD 21843 | Planning and Zoning Division, 301 North Baltimore Avenue, Ocean City, MD 21842 | http://www.msc.fema.gov/lomc | Apr. 17, 2015 | 245207
New Mexico:
Taos | Unincorporated areas of Taos County (14-06-2951P) | The Honorable Gabriel J. Romero, Chairman, Taos County Commission, 105 Albright Street, Suite A, Taos, NM 87571 | Taos County Administrative Complex, 105 Albright Street, Suite H, Taos, NM 87571 | http://www.msc.fema.gov/lomc | Apr. 3, 2015 | 350078
New York:
Essex and Franklin | Village of Saranac Lake (14-02-1850P) | The Honorable Clyde Rabideau, Mayor, Village of Saranac Lake, 39 Main Street, 2nd Floor, Saranac Lake, NY 12983 | Village Office, Community Development Office, 39 Main Street, 2nd Floor, Saranac Lake, NY 12983 | http://www.msc.fema.gov/lomc | Jun. 2, 2015 | 360273
Franklin | Town of Harrietstown (14-02-1850P) | The Honorable Michael Kilroy, Supervisor, Town of Harrietstown, 39 Main Street, Saranac Lake, NY 12983 | Harrietstown Town Hall Building and Planning Department, 39 Main Street, Saranac Lake, NY 12983 | http://www.msc.fema.gov/lomc | Jun. 2, 2015 | 361124
Oklahoma:
Garfield | City of Enid (14-06-2061P) | Mr. Jerald Gilbert, Manager, City of Enid, 401 West Owen K. Garriott Road, Enid, OK 73701 | City Hall, 401 West Owen K. Garriott Road, Enid, OK 73701 | http://www.msc.fema.gov/lomc | Apr. 16, 2015 | 400062
Texas:
Bexar | City of San Antonio (14-06-3279P) | The Honorable Ivy R. Taylor, Mayor, City of San Antonio, P.O. Box 839966, San Antonio, TX 78283 | Department of Public Works, Storm Water Engineering, 1901 South Alamo Street, 2nd Floor, San Antonio, TX 78204 | http://www.msc.fema.gov/lomc | Apr. 22, 2015 | 480045
Bexar | Unincorporated areas of Bexar County (14-06-3279P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Apr. 22, 2015 | 480035
Collin | City of Murphy (14-06-1945P) | The Honorable Eric Barna, Mayor, City of Murphy, 206 North Murphy Road, Murphy, TX 75094 | City Hall, 206 North Murphy Road, Murphy, TX 75094 | http://www.msc.fema.gov/lomc | Apr. 10, 2015 | 480137
Collin | City of Sachse (14-06-1945P) | The Honorable Mike Felix, Mayor, City of Sachse, 3815 Sachse Road, Building B, Sachse, TX 75048 | City Hall, 3815 Sachse Road, Building B, Sachse, TX 75048 | http://www.msc.fema.gov/lomc | Apr. 10, 2015 | 480186
Denton | Town of Trophy Club (14-06-1550P) | The Honorable Nick Sanders, Mayor, Town of Trophy Club, 100 Municipal Drive, Trophy Club, TX 76262 | Town Hall, 100 Municipal Drive, Trophy Club, TX 76262 | http://www.msc.fema.gov/lomc | Apr. 7, 2015 | 481606
El Paso | City of El Paso (14-06-3838P) | The Honorable Oscar Leeser, Mayor, City of El Paso, 300 North Campbell Street, El Paso, TX 79901 | Land Development, 801 Texas Avenue, El Paso, TX 79901 | http://www.msc.fema.gov/lomc | Apr. 24, 2015 | 480214
Fort Bend | Unincorporated areas of Fort Bend County (14-06-3369P) | The Honorable Robert Hebert, Fort Bend County Judge, 401 Jackson Street, Richmond, TX 77469 | Fort Bend County Engineering Department, 1124 Blume Road, Rosenberg, TX 77471 | http://www.msc.fema.gov/lomc | Apr. 23, 2015 | 480228
Harris | City of Houston (13-06-4126P) | The Honorable Annise D. Parker, Mayor, City of Houston, P.O. Box 1562, Houston, TX 77251 | Floodplain Management Office, 1002 Washington Avenue, 3rd Floor, Houston, TX 77002 | http://www.msc.fema.gov/lomc | Apr. 9, 2015 | 480296
Harris | Unincorporated areas of Harris County (13-06-4126P) | The Honorable Ed M. Emmett, Harris County Judge, 1001 Preston Street, Suite 911, Houston, TX 77002 | Harris County Permits Office, 10555 Northwest Freeway, Suite 120, Houston, TX 77092 | http://www.msc.fema.gov/lomc | Apr. 9, 2015 | 480287
Harris | Unincorporated areas of Harris County (14-06-1809P) | The Honorable Ed M. Emmett, Harris County Judge, 1001 Preston Street, Suite 911, Houston, TX 77002 | Harris County Permits Office, 10555 Northwest Freeway, Suite 120, Houston, TX 77092 | http://www.msc.fema.gov/lomc | Apr. 8, 2015 | 480287
Harris | Unincorporated areas of Harris County (14-06-3886P) | The Honorable Ed M. Emmett, Harris County Judge, 1001 Preston Street, Suite 911, Houston, TX 77002 | Harris County Permits Office, 10555 Northwest Freeway, Suite 120, Houston, TX 77092 | http://www.msc.fema.gov/lomc | Apr. 8, 2015 | 480287
Midland | City of Odessa (14-06-2140P) | The Honorable David Turner, Mayor, City of Odessa, P.O. Box 4398, Odessa, TX 79760 | City Hall, 411 West 8th Street, 4th Floor, Odessa, TX 79761 | http://www.msc.fema.gov/lomc | Apr. 14, 2015 | 480206
Midland | Unincorporated areas of Midland County (14-06-2140P) | The Honorable Michael R. Bradford, Midland County Judge, 500 North Loraine Street, Suite 1100, Midland, TX 79701 | Midland County, City of Midland Engineering Services, 300 North Loraine Street, Suite 510, Midland, TX 79701 | http://www.msc.fema.gov/lomc | Apr. 14, 2015 | 481239
Tarrant | City of Grand Prairie (14-06-1709P) | The Honorable Ron Jensen, Mayor, City of Grand Prairie, P.O. Box 534045, Grand Prairie, TX 75053 | Engineering Department, 206 West Church Street, Grand Prairie, TX 75050 | http://www.msc.fema.gov/lomc | Apr. 1, 2015 | 485472
Tarrant | City of River Oaks (14-06-2601P) | The Honorable Herman Earwood, Mayor, City of River Oaks, 4900 River Oaks Boulevard, River Oaks, TX 76114 | 4900 River Oaks Boulevard, River Oaks, TX 76114 | http://www.msc.fema.gov/lomc | Apr. 3, 2015 | 480609

[FR Doc. 2015-05087 Filed 3-04-15; 8:45 am]

BILLING CODE 9110-12-P